DEPARTMENT OF ENERGY

Federal Energy Regulatory Commission

Combined Notice of Filings

Take notice that the Commission has received the following Natural Gas Pipeline Rate and Refund Report filings:

Filings Instituting Proceedings

Docket Numbers: CP18-48-000.

Applicants: Tennessee Gas Pipeline Company, L.L.C.

Description: Joint Application of Tennessee Gas Pipeline Company, L.L.C., Kinder Morgan Tejas Pipeline LLC, and Kinder Morgan Border Pipeline LLC for a Certificate of Public Convenience and Necessity and Related Authorizations.

Filed Date: 1/16/18.

Accession Number: 20180116-5093.

Comments Due: 5 p.m. ET 2/6/18.

Docket Numbers: RP18-359-000.

Applicants: Dominion Energy Carolina Gas Transmission.

Description: Compliance filing DECG—2017 Interruptible Revenue Sharing Report.

Filed Date: 1/19/18.

Accession Number: 20180119-5159.

Comments Due: 5 p.m. ET 1/31/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 23, 2018.
Nathaniel J. Davis, Sr.,
Deputy Secretary.

[FR Doc. 2018-01699 Filed 1-29-18; 8:45 am]

BILLING CODE 6717-01-P